ENVIRONMENTAL PROTECTION AGENCY

[EPA-HQ-OPP-2021-0050; FRL-8606-01-OCSPP]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period October 1, 2020 to March 31, 2021 to control unforeseen pest outbreaks.

FOR FURTHER INFORMATION CONTACT: Marietta Echeverria, Acting Director, Registration Division (7505P), Office of Pesticide Programs, Environmental Protection Agency, 1200 Pennsylvania Ave. NW, Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption.

B. How can I get copies of this document and other related information?

The docket for this action, identified by docket identification (ID) number EPA-HQ-OPP-2021-0050, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Due to the public health concerns related to COVID-19, the EPA Docket Center (EPA/DC) and Reading Room is closed to visitors with limited exceptions. The staff continues to provide remote customer service via email, phone, and webform. For the latest status information on EPA/DC services and docket access, visit http://www.epa.gov/dockets.

II. Background

EPA has granted emergency exemptions to the following State and Federal agencies. The emergency exemptions may take the following form: Crisis, public health, quarantine, or specific. EPA has also listed denied emergency exemption requests in this notice.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, number of acres (if applicable), and the duration of the exemption. EPA also gives the Federal Register citation for the time-limited tolerance, if any.

III. Emergency Exemptions

A. U.S. States and Territories

Arkansas

Department of Agriculture

Specific exemption: EPA authorized the use of benzobicyclon on a maximum of 25,000 acres of zero-grade, water-seeded, conventional, and imidazolinone-resistant rice fields. A time-limited tolerance in connection with a past action has been established in 40 CFR 180.693(c). Effective April 1, 2021 to August 1, 2021.

Public health exemption: EPA authorized the use of 1-octadecanaminium, N,N-dimethyl-N-[3-(trihydroxysilyl)propyl] chloride on non-porous, non-food-contact surfaces in American Airlines aircraft and airport facilities to control the Severe Acute Respiratory Syndrome Coronavirus 2 (SARS-CoV-2), the causal agent of COVID-19. The use is effective January 19, 2021 to August 24, 2021.

California

Department of Pesticide Regulation

Specific exemption: EPA authorized the use of kasugamycin on a maximum of 100,000 acres of almond trees to control bacterial blast (Pseudomonas syringae pv. syringae). A time-limited tolerance in connection with a past action has been established in 40 CFR 180.614(b). Effective February 11, 2021 to April 15, 2021.

Florida

Department of Agriculture and Consumer Services

Specific exemptions: EPA authorized the use of streptomycin on up to 330,254 acres of citrus to manage citrus greening disease (also known as Huanglongbing). Time-limited tolerances in connection with past actions for this use have been established in 40 CFR 180.245(b). Effective December 31, 2020 to December 31, 2021.

EPA authorized the use of the insecticide clothianidin on a maximum of 125,376 acres of immature (3 to 5 years old) citrus trees to control the Asian citrus psyllid, the vector of citrus greening disease (also known as Huanglongbing) to manage disease transmission. A time-limited tolerance in connection with this action has been established in 40 CFR 180.586(b); Effective January 1, 2021 to October 31, 2021.

Georgia

Department of Agriculture

Public health exemption: EPA authorized the use of triethylene glycol as an indoor air treatment at various sites in Georgia when adherence to current public health guidelines is impractical, difficult to maintain, or is not expected to provide a sufficient level of protection, to control the Severe Acute Respiratory Syndrome Coronavirus 2 (SARS-CoV-2), the causal agent of COVID-19. The use is effective January 14, 2021 to January 14, 2022.

Louisiana

Department of Agriculture and Forestry

Specific exemption: EPA authorized the use of triclopyr on a maximum of 450,000 acres of sugarcane to control divine nightshade. A time-limited tolerance in connection with this action has been established in 40 CFR 180.417(b); Effective October 2, 2020 to May 31, 2021.

Massachusetts

Department of Agriculture and Resources

Specific exemption: EPA authorized the use of pronamide on a maximum of 5,000 acres of cranberries to control dodder. A time-limited tolerance in connection with this action has been established in 40 CFR 180.679(b). Effective April 15, 2021 to June 30, 2021.

Oklahoma

Department of Agriculture

Public health exemption: EPA authorized the use of 1-octadecanaminium, N,N-dimethyl-N-[3-(trihydroxysilyl)propyl] chloride on non-porous, non-food-contact surfaces in American Airlines aircraft and airport facilities to control the Severe Acute Respiratory Syndrome Coronavirus 2 (SARS-CoV-2), the causal agent of COVID-19. The use is effective January 19, 2021 to August 24, 2021.

Tennessee

Department of Agriculture

Public health exemption: EPA authorized the use of triethylene glycol as an indoor air treatment at various sites in Tennessee when adherence to current public health guidelines is impractical, difficult to maintain, or is not expected to provide a sufficient level of protection, to control the Severe Acute Respiratory Syndrome Coronavirus 2 (SARS-CoV-2), the causal agent of COVID-19. The use is effective January 14, 2021 to January 14, 2022.

B. Federal Departments and Agencies

Agriculture Department

Animal and Plant Health Inspector Service

Quarantine Exemption: EPA authorized the use of acetic acid on nonporous surfaces to decontaminate from foot and mouth disease virus; Effective April 19, 2021 to April 19, 2024.

National Aeronautics and Space Administration

Specific exemption: EPA authorized use of ortho-phthalaldehyde, immobilized to a porous resin, to treat the International Space Station (ISS) internal active thermal control system (IATCS) coolant for control of aerobic and microaerophilic water bacteria and unidentified gram-negative rods. Effective October 9, 2020 to October 9, 2021. This request was granted because without this use, the ISS would have no means of controlling microorganisms in the IATCS because there are no registered alternatives available which meet the required criteria. Since this request proposed a use of a new (unregistered) chemical, in accordance with the requirements at 40 CFR 166.24, a notice of receipt published in the Federal Register on September 25, 2020 (85 FR 60458) (FRL-10014-21) with the public comment period closing on October 13, 2020.

Authority: 7 U.S.C. 136 et seq.

Dated: July 9, 2021.
Marietta Echeverria,
Acting Director, Registration Division, Office of Pesticide Programs.

[FR Doc. 2021-15043 Filed 7-14-21; 8:45 am]

BILLING CODE 6560-50-P